DEPARTMENT OF AGRICULTURE

National Agricultural Statistics Service

Notice of Intent To Discontinue the Annual Publication of the Prices Paid Data

AGENCY: National Agricultural Statistics Service, USDA.

ACTION: Notice of intent to discontinue the annual publication of prices paid data in the April Prices report. NASS will continue to publish monthly Prices Paid Indexes.

SUMMARY: This notice announces the intention of the National Agricultural Statistics Service (NASS) to discontinue the publication of annual prices paid data. These data include prices paid for fuels, feed, seeds, fertilizer, machinery, and chemicals. These prices were published each year in the April Agricultural Prices report. NASS will continue to collect data on prices paid by farmers and use those data to generate the monthly indexes published in the monthly Prices report. The Prices Paid surveys and publications are approved under OMB #0535-0003.

FOR FURTHER INFORMATION CONTACT: R. Renee Picanso, Associate Administrator, National Agricultural Statistics Service, U.S. Department of Agriculture, (202) 720-4333, or through the NASS OMB Clearance Officer at ombofficer@nass.usda.gov.

SUPPLEMENTARY INFORMATION:

Title: Discontinuation of the Prices Paid Data found in the April 2015 Agricultural Prices publication.

OMB Control Numbers: 0535-0003.

Expiration Dates of Approval: May 31, 2016.

Type of Request: To discontinue the publication of data from the Prices Paid Surveys.

Abstract: The primary functions of the National Agricultural Statistics Service include the collection of data and the preparation and issuance of state and national estimates of crop and livestock production, disposition, prices, and environmental and economic factors. On March 11, 2015, NASS announced via agricultural news media, Prices report subscribers and its Web site that it would be modifying the Agricultural Prices program. www.nass.usda.gov/Newsroom/Notices/03_11_2015a.asp.

For more information about the NASS Prices program, visit: www.nass.usda.gov/Surveys/Guide_to_NASS_Surveys/Prices/index.asp

Agricultural farm input price data for 2014 and prior years are available at www.nass.usda.gov.

Timeline: NASS will discontinue this information publication as of April 16, 2015.

Authority: These data were collected under authority of 7 U.S.C. 2204(a) (General Duties of the Secretary of Agriculture). Individually identifiable data collected under this authority are governed by Section 1770 of the Food Security Act of 1985, 7 U.S.C. 2276, which requires USDA to afford strict confidentiality to non-aggregated data provided by respondents.

Estimate of Burden: There will be no change in public reporting burden for this collection of information.

Signed at Washington, DC, April 1, 2015.
Joseph T. Reilly,
Administrator.

[FR Doc. 2015-08785 Filed 4-15-15; 8:45 am]

BILLING CODE 3410-20-P